DEPARTMENT OF TRANSPORTATION

Federal Aviation Administration

[Policy Statement No. PS-ANM100-2003-10019]

Evaluating a Seat Armrest Cavity for a Potential Fire Hazard

AGENCY: Federal Aviation Administration (FAA), DOT.

ACTION: Notice of proposed policy; request for comments.

SUMMARY: The Federal Aviation Administration (FAA) announces the availability of proposed policy on evaluating a seat armrest cavity for a potential fire hazard.

DATES: Send your comments on or before March 4, 2004.

ADDRESSES: Address your comments to the individual identified under FOR FURTHER INFORMATION CONTACT.

FOR FURTHER INFORMATION CONTACT: Michael T. Thompson, Federal Aviation Administration, Transport Airplane Directorate, Transport Standards Staff, Airframe and Cabin Safety Branch, ANM-115, 1601 Lind Avenue, SW., Renton, WA 98055-4056; telephone (425) 227-1157; fax (425) 227-1232; e-mail: Michael.T.Thompson@faa.gov.

SUPPLEMENTARY INFORMATION:

Comments Invited

The proposed policy is available on the Internet at the following address: http://www.airweb.faa.gov/rgl. If you do not have access to the Internet, you can obtain a copy of the policy by contacting the person listed under FOR FURTHER INFORMATION CONTACT.

The FAA invites your comments on this proposed policy. We will accept your comments, data, views, or arguments by letter, fax, or e-mail. Send your comments to the person indicated in FOR FURTHER INFORMATION CONTACT. Mark your comments, “Comments to Policy Statement No. PS-ANM100-2003-10019.”

Use the following format when preparing your comments:

• Organize your comments issue-by-issue.

• For each issue, state what specific change you are requesting to the proposed policy.

• Include justification, reasons, or data for each change you are requesting.

We also welcome comments in support of the proposed policy.

We will consider all communications received on or before the closing date for comments. We may change the proposed policy because of the comments received.

Background

Due to concern about trapped waste material being a potential fire hazard, the FAA has required seat armrest cavities to be either completely enclosed or have an open bottom. The FAA has conducted research and has determined that for typical armrest cavities, these conditions do not need to be met to prevent a fire hazard. Therefore, revised policy is being proposed.

Issued in Renton, Washington, on January 22, 2004.
K.C. Yanamura,
Acting Manager, Transplane Airplane Directorate, Aircraft Certification Service.

[FR Doc. 04-2197 Filed 2-2-04; 8:45 am]

BILLING CODE 4910-13-M